GENERAL SERVICES ADMINISTRATION

[Notice-MA-2012-03; Docket No. 2012-0002; Sequence 25]

The President's Management Advisory Board (PMAB); Notification of Upcoming Public Advisory Meeting

AGENCY: Office of Executive Councils, U.S. General Services Administration (GSA).

ACTION: Meeting notice.

SUMMARY: The President's Management Advisory Board (PMAB), a Federal Advisory Committee established in accordance with the Federal Advisory Committee Act (FACA), 5 U.S.C., App., and Executive Order 13538, will hold a public meeting on Friday, October 12, 2012.

DATES: Effective date: September 27, 2012.

Meeting date: The meeting will be held on Friday, October 12, 2012, beginning at 9 a.m. eastern time, ending no later than 1:30 p.m.

FOR FURTHER INFORMATION CONTACT: Mr. Scott Winslow, Designated Federal Officer, President's Management Advisory Board, Office of Executive Councils, General Services Administration, 1776 G Street NW., Washington, DC 20006, at scott.winslow@gsa.gov.

SUPPLEMENTARY INFORMATION:

Background: The PMAB was established to provide independent advice and recommendations to the President and the President's Management Council on a wide range of issues related to the development of effective strategies for the implementation of best business practices to improve Federal Government management and operation.

Agenda: The purpose of this meeting is for the PMAB to discuss the adoption and implementation of recommendations for Improving Strategic Sourcing and Curbing Improper Payments. Additionally, PMAB will hear reports regarding the progress of implementing last year's recommendations that were aimed at improving Information Technology (IT) portfolio and project management, IT vendor performance management, Senior Executive Service (SES) leadership development and SES performance appraisal systems. More detailed information on the PMAB recommendations can be found on the PMAB Web site (see below).

Meeting Access: The PMAB will convene its meeting in the Eisenhower Executive Office Building, 1650 Pennsylvania Avenue NW., Washington, DC. Due to security, there will be no public admittance to the Eisenhower Building to attend the meeting.

However, the meeting is open to the public; interested members of the public may view the PMAB's discussion at http://www.whitehouse.gov/live. Members of the public wishing to comment on the discussion or topics outlined in the Agenda should follow the steps detailed in Procedures for Providing Public Comments below.

Availability of Materials for the Meeting: Please see the PMAB Web site (http://www.whitehouse.gov/administration/advisory-boards/pmab) for any available materials and detailed meeting minutes after the meeting. Detailed meeting minutes will be posted within 90 days of the meeting.

Procedures for Providing Public Comments: In general, public statements will be posted on the PMAB Web site (see above). Non-electronic documents will be made available for public inspection and copying in PMAB offices at GSA, 1800 F Street NW., Washington, DC 20006, on official business days between the hours of 10 a.m. and 5 p.m. eastern time. You can make an appointment to inspect statements by telephoning (202) 208-2387. All statements, including attachments and other supporting materials, received are part of the public record and subject to public disclosure. Any statements submitted in connection with the PMAB meeting will be made available to the public under the provisions of the Federal Advisory Committee Act.

The public is invited to submit written statements for this meeting until 12:30 p.m. eastern time on Thursday, October 11th, 2012, by either of the following methods:

Electronic Statements: Submit electronic statements to Mr. Winslow, Designated Federal Officer at scott.winslow@gsa.gov.

Paper Statements: Send paper statements in triplicate to Mr. Winslow at the PMAB GSA address above.

Dated: September 21, 2012.
Janet Dobbs,
Deputy Associate Administrator, Office of Asset and Transportation Management, General Services Administration.

[FR Doc. 2012-23750 Filed 9-26-12; 8:45 am]

BILLING CODE 6820-BR-P